SECURITIES AND EXCHANGE COMMISSION

17 CFR PART 240

[Release Nos. 33-9175A; 34-63741A; File No. S7-24-10]

RIN 3235-AK75

Disclosure for Asset-Backed Securities Required by Section 943 of the Dodd-Frank Wall Street Reform and Consumer Protection Act

AGENCY: Securities and Exchange Commission.

ACTION: Final rule; correcting amendment.

SUMMARY: We are making a technical correction to Rule 15Ga-1 adopted in Release No. 33-9175 (January 20, 2011), which was published in the Federal Register on January 26, 2011. The document contained an incorrect paragraph reference in an instruction to Rule 15Ga-1. This correction is being published to correct the paragraph reference.

DATES: Effective Date: September 1, 2011.

FOR FURTHER INFORMATION CONTACT: Rolaine Bancroft, Senior Special Counsel, in the Office of Structured Finance, at (202) 551-3850, Division of Corporation Finance, U.S. Securities and Exchange Commission, 100 F Street, NE., Washington, DC 20549.

SUPPLEMENTARY INFORMATION: We are making the following correction to 17 CFR part 240, which was amended by Release No. 33-9175 (January 20, 2011), and was published in FR Doc. 2011-1504 on page 4489 in the Federal Register on January 26, 2011 (76 FR 4489).

List of Subjects in 17 CFR Part 240

Reporting and recordkeeping requirements, Securities.

For the reasons set out above, Title 17, Chapter II of the Code of Federal Regulations is amended as follows:

PART 240—GENERAL RULES AND REGULATIONS, SECURITIES EXCHANGE ACT OF 1934

1. The authority citation for part 240 continues to read as follows:

Authority: 15 U.S.C. 77c, 77d, 77g, 77j, 77s, 77z-2, 77z-3, 77eee, 77ggg, 77nnn, 77sss, 77ttt, 78c, 78d, 78e, 78f, 78g, 78i, 78j, 78j-1, 78k, 78k-1, 78 l, 78m, 78n, 78n-1, 78o, 78o-4, 78p, 78q, 78s, 78u-5, 78w, 78x, 78 ll, 78mm, 80a-20, 80a-23, 80a-29, 80a-37, 80b-3, 80b-4, 80b-11, and 7201 et seq.; and 18 U.S.C. 1350 and 12 U.S.C. 5221(e)(3), unless otherwise noted.

* * * * *

§ 240.15Ga-1 [Amended]

2. Amend § 240.15Ga-1 by removing the phrase “Instruction to paragraphs (a)(1)(vii) through (xi): For purposes of these paragraphs (a)(1)(vii) through (xi)” and adding in its place “Instruction to paragraphs (a)(1)(vi) through (xi): For purposes of these (a)(1)(vi) through (xi)”.

Dated: August 25, 2011.
Elizabeth M. Murphy,
Secretary.

[FR Doc. 2011-22257 Filed 8-31-11; 8:45 am]

BILLING CODE 8011-01-P